DEPARTMENT OF ENERGY

Federal Energy Regulatory Commission

[Docket No. RP02-147-000]

ANR Pipeline Company; Notice To Convene Meeting and Setting Date for Convening Session

March 5, 2002.

On January 18, 2002, ANR Pipeline Company filed revised tariff sheets that limits the liability of ANR and its shippers to actual damages in certain circumstances. On February 28, 2002, the Commission accepted and suspended the tariff sheet to be effective on or earlier of August 1, 2002, or a date specified in a further order of the Commission, subject to refund and conditions. The Commission also directed the Dispute Resolution Service to convene a meeting of the parties by March 14, 2002, to arrange a process that may foster negotiation and agreement regarding the proposed tariff sheet.

The Commission's Dispute Resolution Service will conduct a convening session on March 13, 2002, commencing at 10 a.m., in Room 3M-2A at the Federal Energy Regulatory Commission, 888 First Street, NE., Washington, DC The convening session will cover Alternative Dispute Resolution (ADR) processes and interest-based negotiation and will finalize the ADR process. The Dispute Resolution Service will also assist the parties in better identifying and clarifying the issues in the above-captioned docket. If a party has any questions, please call Deborah Osborne at (202) 208-0831.

Magalie R. Salas,
Secretary.

[FR Doc. 02-5727 Filed 3-8-02; 8:45 am]

BILLING CODE 6717-01-P